DEPARTMENT OF COMMERCE

International Trade Administration

[A-533-824]

Polyethylene Terephthalate Film, Sheet, and Strip From India: Preliminary Results and Partial Rescission of Antidumping Duty Administrative Review; 2020-2021

AGENCY: Enforcement and Compliance, International Trade Administration, Department of Commerce.

SUMMARY: The U.S. Department of Commerce (Commerce) is conducting an administrative review of the antidumping duty order on polyethylene terephthalate film, sheet, and strip (PET film) from India. The period of review (POR) is July 1, 2020, through June 30, 2021. This review covers two producers and exporters of PET film from India, Jindal Poly Films (Jindal) and SRF Limited (SRF). We preliminarily determine that neither company made sales of subject merchandise below normal value (NV) during the POR. We are also rescinding the review with respect to six companies because all requests for review for these companies have been withdrawn. Interested parties are invited to comment on these preliminary results.

DATES: Applicable August 5, 2022.

FOR FURTHER INFORMATION CONTACT: Jacqueline Arrowsmith and Jacob Saude, AD/CVD Operations, Office VII, Enforcement and Compliance, International Trade Administration, U.S. Department of Commerce, 1401 Constitution Avenue NW, Washington, DC 20230; telephone: (202) 482-5255 and (202) 482-0981, respectively.

SUPPLEMENTARY INFORMATION:

Background

On July 1, 2002, Commerce published the antidumping duty order on PET film from India.¹ On September 7, 2021, based on timely requests for a review, in accordance with 19 CFR 351.221(c)(1)(i), Commerce initiated an administrative review of the Order, covering eight companies.²

¹ See Notice of Amended Final Antidumping Duty Determination of Sales at Less Than Fair Value and Antidumping Duty Order: Polyethylene Terephthalate Film, Sheet, and Strip from India, 67 FR 44175 (July 1, 2002) (Order).

² See Initiation of Antidumping and Countervailing Duty Administrative Reviews, 86 FR 50034 (September 7, 2021) (Initiation Notice).

On June 27, 2022, in accordance with section 751(a)(3)(A) of the Tariff Act of 1930, as amended (the Act) and 19 CFR 351.213(h)(2), Commerce extended the due date for the preliminary results to July 29, 2022.³ For a complete description of the events that followed the initiation of this review, see the Preliminary Decision Memorandum.⁴

³ See Memorandum, “Polyethylene terephthalate (PET) film, sheet, and strip from India: Second Extension of Deadline for Preliminary Results of Antidumping Duty Administrative Review (2020-2021),” dated June 27, 2022.

⁴ See Memorandum, “Decision Memorandum for the Preliminary Results and Partial Rescission of Antidumping Duty Administrative Review: Polyethylene Terephthalate Film, Sheet, and Strip from India; 2020-2021” dated concurrently with, and hereby adopted by, this notice (Preliminary Decision Memorandum).

Scope of the Order

The merchandise subject to the Order is PET film. The PET film subject to the Order is currently classifiable under subheading 3920.62.00.90 of the Harmonized Tariff Schedule of the United States (HTSUS). Although the HTSUS number is provided for convenience and for customs purposes, the written product description, remains dispositive. For a full description of the scope of the Order, see the Preliminary Decision Memorandum.⁵

⁵ Id.

Partial Rescission of Administrative Review

Commerce initiated a review of eight companies in this proceeding. We are rescinding this administrative review with respect to six of these companies: (1) Ester Industries Ltd.; (2) Garware Polyester Ltd.; (3) MTZ Polyesters Ltd.; (4) Polyplex Corporation; (5) Uflex Ltd.; and (6) Vacmet India, pursuant to 19 CFR351.213(d)(1), because all review requests for these companies were timely withdrawn.⁶ Accordingly, the companies that remain subject to the instant review are Jindal and SRF.⁷

⁶ Id. at “Partial Rescission of Administrative Review.”

⁷ In the Initiation Notice, we initiated a review with respect to SRF Ltd., which is also known as SRF Limited of India and SRF Limited. See Polyethylene Terephthalate Film, Sheet, and Strip from India: Preliminary Results of Antidumping Duty Administrative Review and Partial Rescission of Antidumping Duty Administrative Review; 2019-2020 86 FR 41949 (August 4, 2021), at footnote 7, unchanged in Polyethylene Terephthalate Film, Sheet, and Strip from India: Final Results of Antidumping Duty Administrative Review; 2019-2020 87 FR 5461 (February 1, 2022).

Methodology

Commerce is conducting this review in accordance with section 751(a) of the Act. Export price has been calculated in accordance with section 772 of the Act. NV has been calculated in accordance with section 773 of the Act.

For a full description of the methodology underlying our conclusions, see the Preliminary Decision Memorandum. A list of topics included in the Preliminary Decision Memorandum is included as an Appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly on the internet at https://access.trade.gov/public/FRNoticesListLayout.aspx.

Company Not Selected for Individual Review

The Act and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted average dumping margins established for exporters and producers individually investigated, excluding any zero or de minimis margins, and any margins determined entirely {on the basis of facts available}.” However, where the dumping margins for individually examined respondents are all zero, de minimis, or based entirely on facts available, section 735(c)(5)(B) of the Act provides that Commerce may use “any reasonable method to establish the estimated all-others rate for exporters and producers not individually investigated, including averaging the estimated weighted average dumping margins determined for the exporters and producers individually investigated.”

In this review, we have preliminarily calculated a weighted-average dumping margin for SRF, the sole mandatory respondent, that is zero. Accordingly, Commerce preliminarily has assigned to Jindal, the company not individually examined, a margin of 0.00 percent.

Preliminary Results of Review

As a result of this review, Commerce preliminarily determines that the following weighted-average dumping margins for the period July 1, 2020, through June 30, 2021:

Exporter/producer | Weighted- average dumping margin (percent)
Jindal Poly Films Ltd | 0.00
SRF Limited ⁸ | 0.00

Disclosure and Public Comment

⁸ As noted above, SRF Limited is also known as SRF Limited of India and SRF Ltd.

Commerce intends to disclose its calculations performed in connection with these preliminary results to interested parties within five days of the date of publication of this notice, in accordance with 19 CFR 351.224(b). Pursuant to 19 CFR 351.309(c), interested parties may submit case briefs not later than 30 days after the date of publication of this notice. Rebuttal briefs, limited to issues raised in the case briefs, may be filed not later than seven days after the date for filing case briefs.⁹ Parties who submit case briefs or rebuttal briefs in this proceeding are encouraged to submit with each argument: (1) a statement of the issue; (2) a brief summary of the argument; and (3) a table of authorities.¹⁰ Executive summaries should be limited to five pages total, including footnotes.¹¹ Case and rebuttal briefs should be filed using ACCESS and must be served on interested parties.¹² Note that Commerce has temporarily modified certain of its requirements for serving documents containing business proprietary information, until further notice.¹³

⁹ See 19 CFR 351.309(d); see also Temporary Rule Modifying AD/CVD Service Requirements Due to COVID-19; Extension of Effective Period, 85 FR 41363 (July 10, 2020) (Temporary Rule).

¹⁰ See 19 CFR 351.309(c)(2) and (d)(2).

¹¹ Id.

¹² See 19 CFR 351.303.

¹³ See Temporary Rule.

Pursuant to 19 CFR 351.310(c), interested parties who wish to request a hearing must submit a written request to the Acting Assistant Secretary for Enforcement and Compliance, filed electronically via ACCESS. An electronically filed document must be received successfully in its entirety by Commerce's electronic records system, ACCESS, by 5:00 p.m. Eastern Time within 30 days after the date of publication of this notice. Requests should contain: (1) the party's name, address, and telephone number; (2) the number of participants; and (3) a list of issues to be discussed. Issues raised in the hearing will be limited to those raised in the respective case briefs.

Commerce intends to issue the final results of this administrative review, including the results of its analysis of the issues raised in any written briefs, not later than 120 days after the date of publication of this notice, unless extended, pursuant to section 751(a)(3)(A) of the Act.

Assessment Rates

Upon completion of this administrative review, Commerce shall determine, and U.S. Customs and Border Protection (CBP) shall assess, antidumping duties on all appropriate entries. If a SRF's weighted-average dumping margin is not zero or de minimis (i.e., less than 0.5 percent) in the final results of this review, we will calculate importer-specific ad valorem assessment rates on the basis of the ratio of the total amount of dumping calculated for its importer's examined sales and the total entered value of such sales, in accordance with 19 CFR 351.212(b)(1). Where either the SRF's weighted-average dumping margin is zero or de minimis within the meaning of 19 CFR 351.106(c), or an importer-specific rate is zero or de minimis, we will instruct CBP to liquidate the appropriate entries without regard to antidumping duties.

For entries of subject merchandise during the POR produced by SRF for which SRF did not know its merchandise was destined for the United States, we will instruct CBP to liquidate such unreviewed entries pursuant to the reseller policy, i.e., the assessment rate for such entries will be equal to the all-others rate established at the less-than-fair value investigation (i.e., 5.71 percent ad valorem),¹⁴ if there is no rate for the intermediate company(ies) involved in the transaction.

¹⁴ See Order, 67 at 44176 (showing the dumping margin computed for “all others” as 24.14 percent); and Notice of Final Determination of Sales at Less Than Fair Value: Polyethylene Terephthalate Film, Sheet, and Strip from India, 67 FR 34899, 34901 (Final Determination) (showing an adjustment of 18.43 percent for export subsidies found in the companion CVD investigation). The cash deposit rate for all other exporters is the net of these figures (i.e., 5.71 percent).

For Jindal, which was not selected for individual examination, we intend to assign an assessment rate based on the methodology described in the “Rates for Non-Examined Companies” section. For the companies for which this review is rescinded, antidumping duties shall be assessed at rates equal to the cash deposit of estimated antidumping duties required at the time of entry, or withdrawal from warehouse, for consumption, during the period July 1, 2020, through June 30, 2021, in accordance with 19 CFR 351.212(c)(1)(i).¹⁵

¹⁵ The companies for which this review is rescinded are: (1) Ester Industries Ltd.; (2) Garware Polyester Ltd.; (3) MTZ Polyesters Ltd.; (4) Polyplex Corporation; Uflex Ltd.; and (6) Vacmet India.

Commerce intends to issue assessment instructions to CBP 35 days after the date of publication of the final results of this administrative review in the Federal Register. If a timely summons is filed at the U.S. Court of International Trade, the assessment instructions will direct CBP not to liquidate relevant entries until the time for parties to file a request for a statutory injunction has expired (i.e., within 90 days of publication).

Cash Deposit Requirements

The following deposit requirements will be effective for all shipments of PET film from India entered, or withdrawn from warehouse, for consumption on or after the date of publication of the final results of this administrative review, as provided for by section 751(a)(2)(C) of the Act: (1) the cash deposit rates for the companies under review will be the rate established in the final results of this review (except, if the rate is zero or de minimis, no cash deposit will be required); (2) for previously reviewed or investigated companies not listed above, the cash deposit rate will continue to be the company-specific rate published for the most recently-completed segment of this proceeding in which the company participated; (3) if the exporter is not a firm covered in this review, a prior review, or the less-than-fair value investigation, but the producer is, the cash deposit rate will be the rate established for the most recently-completed segment of this proceeding for the producer of the merchandise; and (4) the cash deposit rate for all other producers or exporters is 5.71 percent.¹⁶ These cash deposit requirements, when imposed, shall remain in effect until further notice.

¹⁶ See Order, 67 FR at 44176; and Final Determination, 67 FR at 34901.

Notification to Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these results in accordance with sections 751(a)(1) and 777(i)(1) of the Act and 19 CFR 351.213(h)(1).

Dated: July 29, 2022.
Lisa W. Wang,
Assistant Secretary for Enforcement and Compliance.

Appendix

List of Topics Discussed in the Preliminary Decision Memorandum

I. Summary

II. Background

III. Partial Rescission of Administrative Review

IV. Company Not Selected for Individual Examination

V. Scope of the Order

VI. Comparisons to Normal Value

VII. Date of Sale

VIII. Export Price

IX. Normal Value

X. Currency Conversion

XI. Recommendation

[FR Doc. 2022-16827 Filed 8-4-22; 8:45 am]

BILLING CODE 3510-DS-P